DEPARTMENT OF THE INTERIOR

National Park Service

National Register of Historic Places; Notification of Pending Nominations

Nominations for the following properties being considered for listing in the National Register were received by the National Park Service before March 15, 2003. Pursuant to section 60.13 of 36 CFR part 60 written comments concerning the significance of these properties under the National Register criteria for evaluation may be forwarded by United States Postal Service, to the National Register Historic Places, National Park Service, 1849 C St. NW., 2280, Washington, DC 20240; by all other carriers, National Register of Historic Places, National Park Service,1201 Eye St. NW., 8th floor, Washington DC 20005; or by fax, 202-343-1836. Written or faxed comments should be submitted by April 17, 2003.

Carol D. Shull,
Keeper of the National Register of Historic Places.

COLORADO

Alamosa County

St. Thomas Episcopal Church, 607 Fourth St., Alamosa, 03000285

GEORGIA

Chatham County

Sea View Apartments, 7 18th St., Tybee Island, 03000286

LOUISIANA

Iberia Parish

LeJeune's Bakery, 1510 W. Main St., Jeanerette, 03000287

MAINE

Androscoggin County

West Durham Methodist Church, 17 Runaround Pond Rd., West Durham, 03000291

Franklin County

Whitney, Capt. Joel, House, 8 Pleasant St., Phillips, 03000293

Kennebec County

Maine Industrial School for Girls Historic District, Winthrop St., 0.5 mi. W of jct. with Water St., Hallowell, 03000289

Stone, Capt. Nathaniel, House, 268 Maine Ave., Farmingdale, 03000292

Oxford County

Hutchins, Moses, House, Jct. of ME 6 and Old Stage Rd., Lovell, 03000290

Penobscot County

Bradford Farm Historic District, 100 Main St., Patten, 03000294

Piscataquis County

Hathaway Barn, 135 Nortons Corner Rd., Willimantic, 03000288

MISSOURI

Jackson County

Goodenow Textiles Company Building, 3710 Main St., Kansas City, 03000297

Johnson County

Miller Building, Matthews Hardware, Metropolitan Building, 800-810 E. Broadway Blvd., Columbia, 03000298

Osage County

Chamois Public School, 402 S. Main St., Chamois, 03000295

St. Louis Independent City, Smith Academy and Manuel Training School, 5351 Enright Ave., St. Louis (Independent City), 03000296

NORTH CAROLINA

Granville County

Peace, John Mask, House, NC 1613, approx. 0.5 mi. SE of jct. with NC 1615 at Peace's Chapel, Fairport, 03000301

Guilford County

Deucley, James Benson, Senior High School and Gymnasium (Greensboro MPS), 1200 Lincoln St., Greensboro, 03000302

Haywood County

Howell, Alden and Thomasene, House, 129 Woolsey Heights, Waynesville, 03000300

Macon County

Cabin Ben, 115 Cullasaja Dr., Highlands, 03000299

TENNESSEE

Shelby County

Green Meadows—Poplar Glen Historic District, Roughly along Union Ave. Ext., Patricia Dr., Madison Ave., Ashlawn Rd., Ashlawn Cove, and Alicia Dr., Memphis, 03000304

Sumner County

Maple Shade, 1755 TN 31E, Gallatin, 03000303

WASHINGTON

Whatcom County

Berthusen Barn and Privy, 8837 Bethusen Rd., Lynden, 03000306

Chicago, Milwaukee, St. Paul and Pacific Railroad: South Cle Elum Yard, Near Milwaukee Rd. and Reservoir Canyon Rd., Lynden, 03000305

WISCONSIN

Dane County

Brown—Sewell House, 101 S. Fifth St., Stoughton, 03000307

[FR Doc. 03-7951 Filed 4-1-03; 8:45 am]

BILLING CODE 4310-70-P